DEPARTMENT OF VETERANS AFFAIRS

[OMB Control No. 2900-0017]

Agency Information Collection Activity: VA Fiduciary's Account, Court Appointed Fiduciary's Account, and Certificate of Balance on Deposit and Authorization To Disclose Financial Records

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before August 19, 2019.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0017” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, Veterans Benefits Administration invites comments on:

(1) Whether the proposed collection of information is necessary for the proper performance of Veterans Benefits Administration's functions, including whether the information will have practical utility; (2) the accuracy of Veterans Benefits Administration's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Supplement to VA Forms 21P-4706b, 21P-4706c and 21P-4718a.

OMB Control Number: 2900-0017.

Type of Review: Extension of a currently approved collection.

Abstract: VA maintains supervision of the distribution and use of VA benefits paid to fiduciaries on behalf of VA beneficiaries who are incompetent, a minor, or under legal disability. The forms are used to verify beneficiaries' deposit remaining at a financial institution against a fiduciary's accounting. The following forms will be used to ensure claimants' benefits payments are administered properly.

(a) VA Forms 21P-4706b and 4706c are used by VA to determine proper usage of benefits paid to fiduciaries. The 21P-4706c is provided to assist VA fiduciaries in conforming to requirements of various State courts.

(b) VA Form 21P-4718a—Fiduciaries are required to obtain certifications that the balances remaining on deposit in financial institutions as shown on accountings are correct. Certifying official at a financial institution completing the form must affix the institution's official seal or stamp. The data collected is used to confirm appointment of a fiduciary for a VA beneficiary and to prevent fiduciaries from supplying false certification, embezzling funds, and possibly prevent and/or identify fraud, waste and abuse of government funds paid to fiduciaries on behalf of VA beneficiaries.

Without this information, VA would be unable to determine if the veteran's fiduciary is properly using the funds for this benefit according to VA law.

Affected Public: Individuals and households.

Estimated Average Annual Burden: 11,166.67 hours.

Estimated Average Burden per Respondent: 20 minutes.

Frequency of Response: Annually.

Estimated Number of Respondents: 33,500.

By direction of the Secretary.
Danny S. Green,
Interim VA Clearance Officer, Office of Quality Performance and Risk Department of Veterans Affairs.

[FR Doc. 2019-12873 Filed 6-17-19; 8:45 am]

BILLING CODE 8320-01-P